DEPARTMENT OF ENERGY

Secretary of Energy Advisory Board; Notice of Open Meeting

AGENCY: Department of Energy.

SUMMARY: This notice announces an open meeting of the Secretary of Energy Advisory Board's Task Force on the Department of Energy's Nonproliferation Programs in the Former Soviet Union. The Federal Advisory Committee Act (Pub. L. 92-463, 86 Stat. 770), requires that agencies publish these notices in the Federal Register to allow for public participation. The purpose of the meeting is to discuss the Task Force's review of the Department of Energy's programs in and with the Former Soviet Union (FSU).

NAME: Secretary of Energy Advisory Board—Task Force on the Department of Energy's Nonproliferation Programs in the Former Soviet Union.

DATES: Monday, March 13, 2000, 9:00 am-3:15 pm, Eastern Standard Time.

ADDRESSES: U.S. Department of Energy, Program Review Center (Room 8E-089), Forrestal Building, 1000 Independence Avenue, SW, Washington, DC 20585.

Note: Members of the public are requested to contact the Office of the Secretary of Energy Advisory Board at (202) 586-7092 in advance of the meeting (if possible), to expedite their entry to the Forrestal Building on the day of the meeting. Public participation is welcomed.

FOR FURTHER INFORMATION CONTACT: Betsy Mullins, Executive Director, or Richard Burrow, Deputy Director, Secretary of Energy Advisory Board (AB-1), U.S. Department of Energy, 1000 Independence Avenue, SW, Washington, D.C. 20585, (202) 586-7092 or (202) 586-6279 (fax).

SUPPLEMENTARY INFORMATION: The purpose of the Task Force on the Department of Energy's Nonproliferation Programs in the Former Soviet Union is to provide independent external advice and recommendations to the Secretary of Energy Advisory Board on the policy priorities established by the Department of Energy to pursue nonproliferation and nuclear safety programs in the Former Soviet Union. Special emphasis will be placed on program areas that may not have been addressed in the past. The Task Force will focus on assessing the performance of DOE's programs in achieving national security and nonproliferation missions, as well as providing policy recommendations on how the Department can be most effective in supporting U.S. national security interests. The Task Force will investigate, but will not be limited to, the following programs: (1) Initiatives for Nonproliferation, (2) Nuclear Cities Initiative, (3) Material Protection Control and Accounting Program, (4) Second Line of Defense Program, (5) Highly Enriched Uranium (HEU) Purchase Agreement, (6) Plutonium Disposition Program, and (7) International Nuclear Safety Program.

Tentative Agenda

Monday, March 13, 2000

9:00 a.m.-9:45 a.m.—Opening Remarks, Introductions & Objectives

9:45 a.m.-10:15 a.m.—Overview of DOE programs with Russia and the Former Soviet Union

10:15 a.m.-10:30 a.m.—Break

10:30 p.m.-11:00 a.m.—Overview of DOE's Office of Nuclear Nonproliferation (NN) Programs

11:00 a.m.-12:00 p.m.—Briefings on Specific Issues—Initiatives for Proliferation Prevention, Nuclear Cities Initiative, Second Line of Defense

12:00 p.m.-1:00 p.m.—Lunch Break

1:15 p.m.-2:15 p.m.—Briefings on Specific Issues—Material Protection Control and Accounting, Plutonium Disposition

2:15 p.m.-3:00 p.m.—Briefings on Specific Issues—HEU Purchase Agreement, International Nuclear Safety

3:00 p.m.-3:15 p.m.—Public Comment Period

This tentative agenda is subject to change.

Public Participation

In keeping with procedures, members of the public are welcome to observe the business of the Task Force on the Department of Energy's Nonproliferation Programs in the Former Soviet Union and submit written comments or comment during the scheduled public comment period. The Chairman of the Task Force is empowered to conduct the meeting in a fashion that will, in the Chairman's judgment, facilitate the orderly conduct of business. During its open meeting, the Task Force welcomes public comment. Members of the public will be heard in the order in which they sign up at the beginning of the meeting. The Task Force will make every effort to hear the views of all interested parties. You may submit written comments to Betsy Mullins, Executive Director, Secretary of Energy Advisory Board, AB-1, U.S. Department of Energy, 1000 Independence Avenue, SW, Washington, D.C. 20585. This notice is being published less than 15 days before the date of the meeting due to the late resolution of programmatic issues.

Minutes

A copy of the minutes and a transcript of the open meeting will be made available for public review and copying approximately 30 days following the meeting at the Freedom of Information Public Reading Room, 1E-190 Forrestal Building, 1000 Independence Avenue, SW, Washington, D.C., between 9:00 a.m. and 4:00 p.m., Monday through Friday except Federal holidays. Further information on the Secretary of Energy Advisory Board and its subcommittees may be found at the Board's web site, located at http://www.hr.doe.gov/seab.

Issued at Washington, D.C., on February 29, 2000.
Rachel M. Samuel,
Deputy Advisory Committee Management Officer.

[FR Doc. 00-5351 Filed 3-3-00; 8:45 am]

BILLING CODE 6450-01-P